DEPARTMENT OF AGRICULTURE

Farm Service Agency

Information Collection; Agricultural Foreign Investment Disclosure Act Report

AGENCY: Farm Service Agency, USDA.

ACTION: Notice; request for comments.

SUMMARY: In accordance with the Paperwork Reduction Act of 1995, the Farm Service Agency (FSA) is requesting comments from all interested individuals and organizations on an extension of a currently approved information collection associated with the Agricultural Foreign Investment Disclosure Act (AFIDA) of 1978.

DATES: We will consider comments that we receive by December 7, 2015.

ADDRESSES: We invite you to submit comments on the notice. In your comments, include date, volume, and page number of this issue of the Federal Register. You may submit comments by any of the following methods:

• Federal eRulemaking Portal: Go to http://www.regulations.gov. Follow the online instructions for submitting comments.

• Mail: Lesa A. Johnson, Agricultural Foreign Investment Disclosure Act (AFIDA) Program Manager, Natural Resources Analysis Group, Economic and Policy Analysis Staff, USDA, FSA, STOP 0531, 1400 Independence Avenue SW., Washington, DC 20250-0531.

You may also send comments to the Desk Officer for Agriculture, Office of Information and Regulatory Affairs, Office of Management and Budget, Washington, DC 20503. Copies of the information collection may be requested by contacting Lesa A. Johnson at the above addresses.

FOR FURTHER INFORMATION CONTACT: Lesa A. Johnson, (202) 720-9223.

SUPPLEMENTARY INFORMATION: Title: Agricultural Foreign Investment Disclosure Act Report.

OMB Control Number: 0560-0097.

Expiration Date of Approval: April 30, 2016.

Type of Request: Extension of a currently approved information collection.

Abstract: AFIDA requires foreign persons who hold, acquire, or dispose of any interest in U.S. agricultural land to report the transactions to FSA on an AFIDA report (FSA-153). The information collected is made available to States. Also, although not required by law, the information collected from the AFIDA reports is used to prepare an annual report to Congress and the President concerning the effect of foreign investment upon family farms and rural communities so that Congress may review the annual report and decide if further regulatory action is required. There is no change to the numbers in the collection.

The formula used to calculate the total burden hour is estimated average time per responses hours times total annual responses.

Estimate of Respondent Burden: Public reporting burden for the information collection is estimated to average 0.476 hours per response.

Respondents: Individuals or households, businesses or other for profit farms.

Estimated Annual Number of Respondents: 5,525.

Estimated Number of Reponses per Respondent: 1.

Estimated Total Annual Responses: 5,525.

Estimated Average Time per Response: 0.476 hours.

Estimated Total Annual Burden on Respondents: 2,631.25 hours.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed by
Val Dolcini,
Administrator, Farm Service Agency.

[FR Doc. 2015-25426 Filed 10-6-15; 8:45 am]

BILLING CODE 3410-05-P